DEPARTMENT OF TRANSPORTATION

Federal Transit Administration

Transit-Oriented Development Planning Pilot Program

AGENCY: Federal Transit Administration (FTA), DOT.

ACTION: Notice of Funding Availability (NOFA): Solicitation of Project Proposals for the Pilot Program for Transit-Oriented Development Planning.

SUMMARY: The Federal Transit Administration (FTA) announces the availability of $19.98 million of Fiscal Year (FY) 2013 and FY 2014 funds under the Pilot Program for Transit-Oriented Development (TOD) Planning as authorized under Section 20005(b) of the Moving Ahead for Progress in the 21st Century Act (MAP-21), Public Law 112-141, July 6, 2012. The program augments FTA's Fixed Guideway Capital Investment Grants (CIG) Program by supporting comprehensive planning associated with new fixed guideway and core capacity improvement projects that will help the projects develop information to address the CIG Program's evaluation criteria and thus be more competitive for that program's funding.

This notice solicits proposals to compete for FY 2013 and FY 2014 funding under the Pilot Program for TOD Planning and may include additional funds made available under future appropriations. It outlines the process to apply for funding, identifies FTA's priorities for these discretionary funds, and establishes the criteria FTA will use to identify meritorious projects for funding. This announcement is available on the FTA Web site at: http://www.fta.dot.gov. FTA may announce final selections on the Web site and in the Federal Register. Additionally, a synopsis of this funding opportunity will be posted in the FIND module of the government-wide electronic grants (GRANTS.GOV) Web site at http://www.grants.gov.

DATES: Complete proposals for Pilot Program for TOD Planning funding must be submitted by 11:59 p.m. EDT November 3, 2014. All proposals must be submitted electronically through the GRANTS.GOV APPLY function. Any agency intending to apply should initiate the process of registering on the GRANTS.GOV site immediately to ensure completion of registration before the submission deadline. Instructions for applying can be found on FTA's Web site at http://www.fta.dot.gov/TODPilot and in the “FIND” module of GRANTS.GOV.

FOR FURTHER INFORMATION CONTACT: For program-specific questions, please contact Benjamin Owen, Office of Planning and Environment, (202) 366-5602, email: Benjamin.Owen@dot.gov. A TDD is available at 1-800-877-8339 (TDD/FIRS).

SUPPLEMENTARY INFORMATION:

Table of Contents

A. FTA Pilot Program for TOD Planning Overview

1. Authority

2. Policy Priorities

B. Program Description and Purpose

C. Program Information

1. Eligible Transit Projects

2. Eligible Applicants

3. Eligible and Ineligible Activities

4. Cost Sharing and Matching

5. Eligible Sources of Match

D. Proposal Submission Process

E. Applicant Information

F. Proposal Content

G. Evaluation Criteria

H. Review and Selection Process

I. Award Information

J. Award Administration

K. Technical Assistance and Other Program Information

Appendix A: Registration in GRANTS.GOV

A. FTA Pilot Program for TOD Planning Overview

1. Authority

MAP-21 authorizes FTA to make grants for eligible projects under the Pilot Program for TOD Planning on a competitive basis subject to the terms and conditions outlined in. The $19.98 million available consists of $9.98 million from the Consolidated and Further Continuing Appropriations Act, 2013, and $10 million from the Consolidated Appropriations Act, 2014. FTA intends to award both years' funding to selected applicants responding to this NOFA and may include additional funds made available under future appropriations.

2. Policy Priorities

Through this program, FTA intends to fund comprehensive planning work, including for TOD, that would likely otherwise not occur without Federal support and is conducted in conjunction with the development of transit capital investments that will seek funding from the CIG Program. FTA is seeking comprehensive planning projects covering an entire transit capital project corridor, rather than proposals that involve planning for individual station areas or only a small section of the corridor. FTA is also prioritizing applications in corridors with significant challenges related to TOD planning, low levels of existing development, or where the cost of the planning work to overcome the challenges exceeds what might be readily available locally. Lastly, FTA is seeking planning efforts that include strategies to support housing affordability and address residential and commercial displacement that can sometimes occur when transit capital projects are implemented.

This program will support two priorities of the U.S. Department of Transportation. It will assist the Department with creating Ladders of Opportunity for all Americans by assisting local project sponsors with planning improved access to employment, health care, education, and housing. The program will also promote public-private partnerships by requiring private sector participation.

Congress enacted the Pilot Program for TOD Planning to leverage the significant investments in transit projects FTA is making through its CIG Program. Therefore, FTA is requiring that proposed planning activities be associated with a capital transit project that is currently or soon will be in the Project Development or Engineering phase of the CIG Program (see section C, subsection 1 of this notice for more detail on this requirement).

To ensure any proposed planning work results in concrete, specific deliverables and outcomes, FTA is requiring that transit project sponsors partner with entities with land use planning authority in the transit project corridor to conduct the planning work. FTA will assess the strength of these partnerships in its evaluation of applications.

FTA has been considering the strength of local land use plans and policies in fostering TOD in its evaluation of capital investments projects for nearly two decades, over which time the practice of TOD planning and implementation in the United States has advanced significantly. Most local jurisdictions now develop station-area TOD plans in conjunction with the planning for transit capital investments, and several regions have funding tools to encourage TOD. With few exceptions, these advances in TOD practice have been locally funded and FTA's direct involvement has been limited. Thus, the goal of this program is to further TOD planning by addressing barriers to its implementation and ensuring concrete performance outcomes and measures.

B. Program Description and Purpose

The Pilot Program for TOD Planning helps support FTA's mission of improving public transportation for America's communities by providing funding to local communities to integrate land use and transportation planning with a transit capital investment that will seek funding through the CIG Program. The Pilot Program is not intended to simply support planning that maintains or increases development adjacent to transit. Instead, the Pilot Program is intended to fund comprehensive planning that supports economic development, ridership, multimodal connectivity and accessibility, increased transit access for pedestrian and bicycle traffic, and mixed-use development near transit stations, thus developing information that addresses the CIG Program's evaluation criteria and increasing the competitiveness of the project for that program's funding. The program also encourages identification of infrastructure needs and engagement with the private sector.

C. Program Information

1. Eligible Transit Projects

Any comprehensive planning work proposed for funding under the Pilot Program for TOD Planning must be associated with an eligible transit capital project. To be eligible, the transit capital project must be a New Starts, Core Capacity or fixed-guideway Small Starts project as defined under the CIG Program (e.g., in Section 5309(a) of title 49, United States Code), and be either:

i. In the Project Development or Engineering phase of the New Starts or Core Capacity process, or in the Project Development phase of the Small Starts process by the date the application to the Pilot Program for TOD Planning is submitted; or

ii. Expected to enter New Starts, Small Starts or Core Capacity Project Development in the near future, as evidenced by the transit project sponsor having already initiated the environmental review activities under the National Environmental Policy Act (NEPA) prior to the publication date of this NOFA.

2. Eligible Applicants

Eligible applicants under this program must be existing direct recipients of FTA grants as of the publication date of this NOFA. An applicant must either be the project sponsor of an eligible transit capital project as defined in the previous subsection or an entity with land use planning authority in an eligible transit capital project corridor. Except in cases where an applicant is both the sponsor of an eligible transit project and has land use authority in at least a portion of the transit project corridor, the application for Pilot Program for TOD Planning funds must include sufficient evidence of a partnership between the transit project sponsor and at least one entity in the project corridor with land use planning authority. Sufficient evidence may include a memorandum of agreement or letter of intent signed by all parties that describes the parties' roles and responsibilities in the proposed comprehensive planning project. Only one application per transit capital project corridor may be submitted to FTA. Multiple applications submitted for a single transit capital project corridor indicate to FTA that partnerships are not in place and FTA will reject all of the applications.

3. Eligible Activities

Applications for funding under the Pilot Program for TOD Planning must describe how the planning work proposed addresses all six aspects of the general authority stipulated in Section 20005(b)(2) of MAP-21:

(A) Enhances economic development, ridership, and other goals established during the project development and engineering processes;

(B) facilitates multimodal connectivity and accessibility;

(C) increases access to transit hubs for pedestrian and bicycle traffic;

(D) enables mixed-use development;

(E) identifies infrastructure needs associated with the eligible project; and

(F) includes private sector participation.

Applications should describe the anticipated final deliverables that will result from the planning work. Examples of final deliverables may include, but are not restricted to, the following:

i. A comprehensive plan report that includes corridor development policies and station development plans, a proposed timeline, and recommended financing strategies for these plans;

ii. A strategic plan report that includes corridor specific planning strategies and program recommendations to support comprehensive planning;

iii. Revised TOD-focused zoning codes and/or resolutions;

iv. A report evaluating and recommending tools to encourage TOD implementation such as land banking, value capture, and development financing;

v. An analysis of the effects of gentrification due to transit capital project implementation and recommendations to reduce these effects;

vi. An analysis of efforts to promote multimodal access to transit stations and to improve connectivity of disadvantaged populations to essential services;

vii. Policies to encourage TOD; and/or

viii. Local or regional resolutions to implement TOD plans and/or establish TOD funding mechanisms.

4. Ineligible Activities

Applications should not include the following activities, which include activities that are targeted to only a single location rather than the comprehensive corridor-focused TOD planning study desired by FTA:

i. TOD planning work in a single transit capital project station area;

ii. Transit project development activities that would be reimbursable through the CIG Program under a Full Funding Grant Agreement (FFGA) or a Small Starts Grant Agreement (SSGA), such as the design and engineering of stations and other facilities, environmental analyses needed for the transit capital project, or costs associated with specific joint development activities;

iii. Capital projects, such as land acquisition, construction, and utility relocation; and

iv. Site- or parcel-specific planning, such as the design of individual structures.

5. Cost Sharing or Matching and Award Amount

The maximum Federal funding share is 80 percent.

6. Eligible Sources of Match

The application must describe the cost of the planning effort proposed and identify the funding sources necessary to complete the work, including the amount of Pilot Program for TOD Planning funds being requested. The applicant must describe each source of the local match and identify whether the funds from each source are committed or planned. For funds identified as committed, the application must include documentation of the funding commitments such as a letter, resolution, adopted budget, etc. Transportation Development Credits (formerly referred to as Toll Revenue Credits) may not be used to satisfy the local match requirement.

D. Proposal Submission Process

Project proposals must be submitted electronically through http://www.GRANTS.GOV by 11:59 p.m. November 3, 2014. Mail and fax submissions will not be accepted. Proposals should include only a completed SF 424 Mandatory form (downloaded from GRANTS.GOV) and the following attachments to the completed SF 424:

—A completed Applicant and Proposal Profile supplemental form for the Pilot Program for Transit-Oriented Development Planning (supplemental form) found on the FTA Web site at http://www.fta.dot.gov/TODPilot. The supplemental form provides a consistent format for proposers to respond to the criteria outlined in this NOFA and takes the place of a free-form written application. Supplemental forms for other FTA funding programs will not be accepted;

—Documentation of a partnership between the transit project sponsor and an entity in the project corridor with land use planning authority to conduct the planning work, if the applicant does not have both of these responsibilities; and

—Documentation of any funding commitments for the proposed planning work.

FTA will not consider any further attachments in its evaluation of applications, including any narrative that does not fit within the supplemental form's length limit. The total length of the completed supplemental form and documentation of partnerships and funding commitments should be no more than 15 pages.

Within 24-48 hours after submitting an electronic application, the applicant should receive three email messages from GRANTS.GOV: (1) Confirmation of successful transmission to GRANTS.GOV, (2) confirmation of successful validation by GRANTS.GOV and (3) confirmation of successful validation by FTA. If confirmations of successful validation are not received and a notice of failed validation or incomplete materials is received, the applicant must address the reason for the failed validation, as described in the email notice, and resubmit before the submission deadline. If making a resubmission for any reason, include all original attachments regardless of which attachments were updated and check the box on the supplemental form indicating this is a resubmission.

Any addenda that FTA releases on the application process will be posted at http://www.fta.dot.gov/TODPilot. Important: FTA urges proposers to submit their applications at least 72 hours prior to the due date to allow time to receive the validation messages and to correct any problems that may have caused a rejection notification. FTA will not accept submissions after the stated submission deadline. GRANTS.GOV scheduled maintenance and outage times are announced on the GRANTS.GOV Web site at http://www.GRANTS.GOV. Deadlines will not be extended due to scheduled maintenance or outages.

Proposers are encouraged to begin registration process on the GRANTS.GOV site well in advance of the submission deadline. Registration is a multi-step process, which may take several weeks to complete before an application can be submitted. Registered proposers may still be required to take steps to keep their registration up to date before submissions can be made successfully: (1) Registration in the System for Award Management (SAM) is renewed annually and (2) persons making submissions on behalf of the Authorized Organization Representative (AOR) must be authorized in GRANTS.GOV by the AOR to make submissions. Instructions on the GRANTS.GOV registration process are listed in Appendix A.

Information such as proposer name, Federal amount requested, local match amount, description of areas served, etc. may be requested in varying degrees of detail on both the SF 424 form and supplemental form. Proposers must fill in all fields unless stated otherwise on the forms. Proposers should use both the “Check Package for Errors” and the “Validate Form” validation buttons on both forms to check all required fields on the forms, and ensure that the federal and local amounts specified are consistent. The information listed in sections E and F of this NOFA MUST be included on the SF 424 and supplemental forms for all requests for Pilot Program for TOD Planning funding.

E. Applicant Information

1. Name of the lead applicant and, if applicable, the specific co-sponsors submitting the application.

2. Dun and Bradstreet (D&B) Data Universal Numbering System (DUNS) number.

3. Contact information including: Contact name, title, address, congressional district, fax and phone number, and email address if available.

4. Name of person(s) authorized to apply on behalf of the system (attach a signed transmittal letter) must accompany the proposal.

F. Proposal Content

Proposals should include only a completed SF 424 Mandatory form and the following attachments to the completed SF 424:

—A supplemental form as described in Section D of this NOFA that has been completed and validated using the “Validate Form” button. The supplemental form prompts applicants for all required information about the proposed planning work (listed below), includes fields for responses and takes the place of a free-form written application;

—Documentation of a partnership between the transit project sponsor and an entity in the project corridor with land use planning authority to conduct the planning work, if the applicant does not have both of these responsibilities; and

—Documentation of any funding commitments for the proposed planning work.

FTA will not consider any additional materials submitted by applicants in its evaluation of proposals. The total length of the completed supplemental form and documentation of partnerships and funding commitments should be no more than 15 pages.

The supplemental form will prompt applicants to address the following items:

1. Identify the project title and project scope to be funded, including anticipated final deliverables.

2. Identify an eligible transit project that meets the requirements of section C, subsection 1 of this notice.

3. Provide evidence of a partnership between the transit project sponsor and at least one agency with land use authority in the transit capital project corridor, per section C, subsection 2 of this notice.

4. Address the six aspects of general authority under MAP-21 Section 20005(b)(2).

5. Address each evaluation criterion separately, demonstrating how the project responds to each criterion as described in section G.

6. Provide a line-item budget for the total planning effort, with enough detail to indicate the various key components of the project.

7. Identify the Federal amount requested.

8. Document the matching funds, including amount and source of the match (may include local or private sector financial participation in the project). Describe whether the matching funds are committed or planned, and include documentation of the commitments.

9. Address whether other Federal funds have been sought or received for the project.

10. Provide a project time-line, including significant milestones such as the dates anticipated to incorporate the planning work effort into the region's metropolitan transportation plan and transportation improvement program, and to complete all of the proposed planning work within the maximum period of performance.

11. Describe how the planning work advances goals of the region's metropolitan transportation plan.

12. Propose performance criteria for the implementation of the planning work.

13. Identify possible impediments to the planning work and its implementation, and how the work will address them.

G. Evaluation Criteria

FTA will evaluate proposals that include all components identified in section F of this notice according to the following four criteria:

1. Demonstrated Need

FTA will evaluate each project to determine the need for funding based on the following factors:

i. Barriers to TOD in the corridor and how the proposed work will overcome them;

ii. How the proposed work will advance TOD implementation in the corridor and region;

iii. Justification as to why Federal funds are needed for the proposed work; and

iv. Extent to which the transit project corridor could benefit from TOD planning, as evidenced by current corridor population and employment, and by the extent of ongoing TOD development activity in the corridor, if any.

2. Strength of the Work Plan, Schedule and Process

FTA will evaluate the strength of the work plan, schedule and process included in an application based on the following factors:

i. Extent to which the schedule contains sufficient detail, identifies all steps needed to implement to work proposed, and is achievable;

ii. The proportion of the corridor covered by the work plan;

iii. Extent of partnerships, including with non-public sector entities;

iv. The partnerships' technical capability to develop and implement the plans, based on FTA's assessment of the applicant's description of the policy formation, implementation, and financial roles of the partners, and the roles and responsibilities of proposed staff;

v. Whether the performance measures identified in the application relate to the goals of the planning work;

vi. The extent to which the application demonstrates efforts to address gentrification and displacement;

vii. The extent to which the application demonstrates a commitment to connecting disadvantaged populations to essential services;

viii. Whether the proposed work will examine innovative financial tools such as value capture; and

ix. Whether the application demonstrates leveraging other Federal grants that would support the proposed work plan.

3. Likelihood of Transit Project Implementation

Under this factor, FTA will consider how far along the transit capital project is in the CIG Program process. Planning studies in a corridor where the transit capital project is in the Engineering phase or the Project Development phase will be given a higher score by FTA. Planning studies in a corridor where the transit capital project is not yet in the CIG Program but is expected to soon enter as demonstrated by the initiation of the environmental review process will be given a lower rating under this factor by FTA. FTA will also consider whether the project is currently in the region's fiscally constrained long range transportation plan.

4. Funding Commitments

FTA will assess the status of local matching funds for the planning work. Applications demonstrating that matching funds for the proposed planning work are committed will receive higher ratings from FTA on this factor. Proposed planning projects for which matching funding sources have been identified, but are not yet committed, will be given lower ratings under this factor by FTA.

H. Review and Selection Process

A technical evaluation committee consisting of FTA staff will perform a primarily qualitative evaluation according to the criteria described above. FTA will assign greatest emphasis to the Demonstrated Need and Strength of the Work Plan, Schedule and Process criteria. Each complete, eligible application will receive a rating of Highly Recommended, Recommended or Not Recommended depending on its performance against the criteria. Applications that are complete but not eligible will not be rated. FTA may seek clarification from any applicant about any statement in its application that FTA finds ambiguous, and/or to request additional documentation to be considered during the evaluation process to clarify information contained within the application.

After a thorough evaluation of all eligible proposals, the technical evaluation committee will provide selection recommendations to the FTA Administrator. The FTA Administrator will determine the final list of project selections, and the amount of funding for each project. Geographic diversity and the applicant's receipt of other FTA discretionary funding may be considered in FTA's award decisions. FTA expects to announce the selected projects and notify successful proposers during fall 2014.

I. Award Information

FTA intends to fund as many meritorious TOD planning efforts as possible. Only proposals from eligible recipients for eligible activities will be considered for funding. FTA anticipates minimum grant awards of $250,000 and maximum grant awards of $2,000,000. The maximum period of performance allowed for the work covered by the award is 24 months.

J. Award Administration

1. Award Notices

FTA will not extend pre-award authority for selected projects prior to grant awards. Local funds must be committed and grants awarded within eight months of funding announcements.

2. Administrative and National Policy Requirements

i. Grant Requirements

If selected, awardees will apply for a grant through FTA's electronic grants management system and adhere to the customary FTA grant requirements of the Section 5307 Urbanized Area Formula Grant program, including those of FTA Circular 9030.1E, Circular 5010.1D, and the labor protections of 49 U.S.C. Section 5333(b). All discretionary grants, regardless of award amount, will be subject to the Congressional Notification and release process. Technical assistance regarding these requirements is available from each FTA regional office.

ii. Planning

FTA encourages proposers to notify the appropriate State Departments of Transportation and MPOs in areas likely to be served by the project funds made available under these initiatives and programs. Selected projects must be incorporated into the long-range plans and transportation improvement programs of States and metropolitan areas before they are eligible for FTA funding.

iii. Standard Assurances

The applicant assures that it will comply with all applicable Federal statutes, regulations, executive orders, FTA circulars, and other Federal administrative requirements in carrying out any project supported by the FTA grant. The applicant acknowledges that it is under a continuing obligation to comply with the terms and conditions of the grant agreement issued for its project with FTA. The applicant understands that Federal laws, regulations, policies, and administrative practices might be modified from time to time and may affect the implementation of the project. The applicant agrees that the most recent Federal requirements will apply to the project, unless FTA issues a written determination otherwise. The applicant must submit the Certifications and Assurances before receiving a grant if it does not have current certifications on file.

iv. Reporting

Post-award reporting requirements include submission of Federal Financial Reports and Milestone Reports in FTA's electronic grants management system on a quarterly basis. Awardees must also submit copies of the deliverables identified in the work plan to FTA at the corresponding milestones.

FTA is in the process of seeking Office of Management and Budget (OMB) approval for the collection of data under this NOFA, as required per the Paperwork Reduction Act of 1995. Awardees will not be required to respond to the reporting and recordkeeping requirements in the NOFA until notification of OMB approval has been published in the Federal Register.

K. Technical Assistance and Other Program Information

This program is not subject to Executive Order 12372, “Intergovernmental Review of Federal Programs.” FTA will consider applications for funding only from eligible recipients for eligible projects listed in Section C.

Complete applications must be submitted through GRANTS.GOV by 11:59 p.m. EDT November 3, 2014. Contact information for FTA's regional offices can be found on FTA's Web site at www.fta.dot.gov.

Therese W. McMillan,
Acting Administrator.

APPENDIX A

Registering in SAM and GRANTS.GOV

Registration in Brief

Registration takes approximately 3-5 business days, but allow 4 weeks for completion of all steps.

STEP 1: Obtain DUNS Number

Same day. If requested by phone (1-866-705-5711) DUNS is provided immediately. If your organization does not have one, you will need to go to the Dun & Bradstreet Web site at http://fedgov.dnb.com/webform [EXIT Disclaimer] to obtain the number. *Information for Foreign Registrants. *Webform requests take 1-2 business days.

STEP 2: Register with SAM

Three to five business days or up to two weeks. If you already have a TIN, your SAM registration will take 3-5 business days to process. If you are applying for an EIN please allow up to 2 weeks. Ensure that your organization is registered with the System for Award Management (SAM) at System for Award Management (SAM). If your organization is not, an authorizing official of your organization must register.

STEP 3: Username & Password

Same day. Complete your AOR (Authorized Organization Representative) profile on Grants.gov and create your username and password. You will need to use your organization's DUNS Number to complete this step. https://apply07.grants.gov/apply/OrcRegister.

STEP 4: AOR Authorization

*Same day. The E-Business Point of Contact (E-Biz POC) at your organization must login to Grants.gov to confirm you as an Authorized Organization Representative (AOR). Please note that there can be more than one AOR for your organization. In some cases the E-Biz POC is also the AOR for an organization. *Time depends on responsiveness of your E-Biz POC.

STEP 5: TRACK AOR STATUS

At any time, you can track your AOR status by logging in with your username and password. Login as an Applicant (enter your username & password you obtained in Step 3) using the following link: applicant_profile.jsp

[FR Doc. 2014-21057 Filed 9-3-14; 8:45 am]

BILLING CODE 4910-57-P